ENVIRONMENTAL PROTECTION AGENCY

[EPA-HQ-OPPT-2018-0604; FRL-9990-36]

Materials Supporting the Colour Index (C. I.) Pigment Violet 29 Risk Evaluation; Notice of Availability and Comment Opportunity

Correction

In notice document 2019-07708 appearing on page 16011 in the issue of Wednesday, April 17, 2019, make the following correction:

In the first column, under the DATES heading, in the second line “April 17, 2019” should read “May 17, 2019”.

[FR Doc. C1-2019-07708 Filed 4-18-19; 8:45 am]

BILLING CODE 1301-00-D